DEPARTMENT OF HOMELAND SECURITY

Coast Guard

33 CFR Part 165

[Docket No. USCG-2011-0841]

RIN 1625-AA00

Safety Zone; Mississippi River, Mile Marker 230 to Mile Marker 234, in the Vicinity of Baton Rouge, LA

AGENCY: Coast Guard, DHS.

ACTION: Temporary final rule.

SUMMARY: The Coast Guard is establishing a temporary safety zone for all waters of the Mississippi River beginning at mile marker 230 and ending at mile marker 234, in the vicinity of Baton Rouge, Louisiana. The temporary safety zone is needed to protect persons and vessels from the potential safety hazards associated with a maritime salvage operation. Entry into this zone is prohibited unless vessels have met the specified instructions or are specifically authorized by the Captain of the Port New Orleans or a designated representative.

DATES: Effective Date: This rule is effective in the CFR from September 30, 2011 until 7 a.m. CST on November 25, 2011. This rule is effective with actual notice for purposes of enforcement beginning 7 a.m. CST on August 28, 2011.

ADDRESSES: Documents indicated in this preamble as being available in the docket are part of docket USCG-2011-0841 and are available online by going to http://www.regulations.gov, inserting USCG-2011-0841 in the “Keyword” box, and then clicking “Search.” They are also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this temporary rule, call or e-mail Lieutenant (LT) Chris Norton, Marine Safety Unit Baton Rouge, at 225-298-5400, Christopher.R.Norton@uscg.mil. If you have questions on viewing the docket, call Renee V. Wright, Program Manager, Docket Operations, telephone 202-366-9826.

SUPPLEMENTARY INFORMATION:

Regulatory Information

The Coast Guard is issuing this temporary final rule without prior notice and opportunity to comment pursuant to authority under section 4(a) of the Administrative Procedure Act (APA) (5 U.S.C. 553(b)). This provision authorizes an agency to issue a rule without prior notice and opportunity to comment when the agency for good cause finds that those procedures are “impracticable, unnecessary, or contrary to the public interest.” Under 5 U.S.C. 553(b)(3)(B), the Coast Guard finds that good cause exists for not publishing a notice of proposed rulemaking (NPRM) with respect to this rule. The Coast Guard received notice on August 22, 2011 that McKinney Salvage and Heavy Lift Inc. would be continuing maritime salvage operations in the vicinity of Baton Rouge. Due to the salvage of three separate barges and two equipment failures, the operation and required safety zone will require more time and encompass two more river miles than provided in the safety zone previously implemented at docket USCG-2011-0747. Short notice for the original safety zone was based on the river levels falling to a required height enabling the salvage operation to take place and, since then, the operation incurred two equipment failures. Publishing a NPRM would be impracticable because it would delay the immediate action necessary to protect the salvage crew, vessels, and mariners from the hazards associated with ongoing maritime salvage operations.

Under 5 U.S.C. 553(d)(3), the Coast Guard finds that good cause exists for making this rule effective less than 30 days after publication in the Federal Register. The Coast Guard received notice on August 22, 2011 that McKinney Salvage and Heavy Lift Inc. would be continuing maritime salvage operations in the vicinity of Baton Rouge. Due to the salvage of three separate barges and two equipment failures, the operation and required safety zone will require more time and encompass two more river miles than provided in the safety zone previously implemented at docket USCG-2011-0747. Short notice for the original safety zone was based on the river levels falling to a required height enabling the salvage operation to take place and, since then, the operation incurred two equipment failures. Providing 30 days notice is impracticable because immediate action is needed to protect the salvage crew, vessels, and mariners from the hazards associated with ongoing maritime salvage operations.

Basis and Purpose

The Captain of the Port New Orleans has implemented a safety zone from mile marker 230 to 234, Lower Mississippi River to protect those vessels and mariners from the hazards associated with ongoing maritime salvage operations.

Discussion of Rule

The Captain of the Port New Orleans will implement a temporary safety Zone on the Lower Mississippi River (LMR) extending the entire width of the river from Mile Marker (MM) 230 to MM 234. Mariners will be subject to requirements that will be listed in Marine Safety Information Bulletins from 7 a.m. August 28, 2011 and continue to 7 a.m. November 25, 2011. This operation will continue 24 hours a day. Mariners must request permission to transit through the area from Vessel Traffic Service Lower Mississippi River in New Orleans on VHF channel 12 or 67. The temporary check-in points are no lower than MM 239 for southbound vessels and no higher than MM 228 for northbound vessels.

The Safety Zone is needed due to McKinney Salvage and Heavy Lift Inc. conducting ongoing maritime salvage operations in the vicinity of MM 230 to MM 234 on the LMR. The operations that will be conducted are critical to maintaining safe navigation on the LMR. Any wake, beyond that created at minimum safe speed, or external force exerted on the salvage platform can compromise the safety of the salvage crew.

Regulatory Analyses

We developed this rule after considering numerous statutes and executive orders related to rulemaking. Below we summarize our analyses based on 13 of these statutes or executive orders.

Regulatory Planning and Review

This rule is not a significant regulatory action under section 3(f) of Executive Order 12866, Regulatory Planning and Review, as supplemented by Executive Order 13563, Improving Regulation and Regulatory Review, and does not require an assessment of potential costs and benefits under section 6(a)(3) of that Executive Order 12866 or under section 1 of Executive Order 13563. The Office of Management and Budget has not reviewed it under those Orders.

This rule establishes a temporary safety zone on the Mississippi River from mile marker 230 to mile marker 234, in the vicinity of Baton Rouge, Louisiana. The additional safety restrictions do not prevent safe transit through the area. Due to its duration and limited scope, it does not pose a significant regulatory impact.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities. This rule will affect the following entities, some of which may be small entities: The owners or operators of vessels intending to transit the Mississippi River between mile markers 230 to 234 from 7 a.m. CST on August 28, 2011 until 7 a.m. CST on November 25, 2011. This temporary safety zone will not have a significant economic impact on a substantial number of small entities because vessels are still able to transit the area under the safety restrictions listed in Marine Safety Information Bulletins and this rule will be in effect for only a short period of time. If you are a small business entity, contact LT Chris Norton, Marine Safety Unit Baton Rouge, at (225) 298-5400 or Christopher.R.Norton@uscg.mil.

Assistance for Small Entities

Under section 213(a) of the Small Business Regulatory Enforcement Fairness Act of 1996 (Pub. L. 104-121), we offer to assist small entities in understanding the rule so that they can better evaluate its effects on them and participate in the rulemaking process.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or Tribal government, in the aggregate, or by the private sector of $100,000,000 or more in any one year. Though this rule will not result in such an expenditure, we do discuss the effects of this rule elsewhere in this preamble.

Taking of Private Property

This rule will not effect a taking of private property or otherwise have taking implications under Executive Order 12630, Governmental Actions and Interference with constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have Tribal implications under Executive Order 13175, Consultation and Coordination with Indian Tribal Governments, because it does not have a substantial direct effect on one or more Indian Tribes, on the relationship between the Federal Government and Indian Tribes, or on the distribution of power and responsibilities between the Federal Government and Indian Tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

Environment

We have analyzed this rule under Department of Homeland Security Management Directive 023-01 and Commandant Instruction M16475.lD, which guide the Coast Guard in complying with the National Environmental Policy Act of 1969 (NEPA) (42 U.S.C. 4321-4370f), and have concluded this action is one of a category of actions which do not individually or cumulatively have a significant effect on the human environment. This rule is categorically excluded, under figure 2-1, paragraph (34)(g), of the Instruction. This rule establishes a temporary safety zone on the Mississippi River to protect persons and vessels from the potential safety hazards associated with maritime salvage operations and are over one week in duration. Under figure 2-1, paragraph 34(g), of the Instruction, an environmental analysis checklist and a categorical exclusion determination will be prepared and submitted to the docket.

List of Subjects in 33 CFR Part 165

Harbors, Marine safety, Navigation (Water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 33 U.S.C. 1231; 46 U.S.C. Chapter 701, 3306, 3703; 50 U.S.C. 191, 195; 33 CFR 1.05-1, 6.04-1, 6.04-6, and 160.5; Pub. L. 107-295, 116 Stat. 2064; Department of Homeland Security Delegation No. 0170.1.

2. A new temporary § 165.T11-0841 is added to read as follows:

§ 165.T11-0841 Safety Zone; Mississippi River, Mile Marker 230 to Mile Marker 234, in the vicinity of Baton Rouge, LA.

(a) Location. The following area is a temporary safety zone: All waters of the Mississippi River beginning at mile marker 230 and ending at mile marker 234, extending the entire width of the river, in the vicinity of Baton Rouge.

(b) Effective Date. This section is effective from 7 a.m. CST on August 28, 2011 until 7 a.m. CST on November 25, 2011.

(c) Regulations. (1) In accordance with the general regulations in 33 CFR part 165, subpart C, entry into this zone is prohibited unless vessels have met the specific instructions or are authorized by the Captain of the Port New Orleans or designated representative as further explained below.

(2) Persons or vessels requiring entry into or passage through must have met the specific instructions or request permission from the Captain of the Port New Orleans or a designated representative. They may be contacted via VHF Channel 12, 67, or via telephone at (504) 365-2514.

(3) All persons and vessels shall comply with the instructions of the Captain of the Port New Orleans and designated personnel. Designated personnel include commissioned, warrant, and petty officers of the U.S. Coast Guard.

(4) The instructions of the Captain of the Port in are as follows:

(i) The Captain of the Port New Orleans has implemented a temporary safety Zone on the Lower Mississippi River (LMR) extending the entire width of the river from Mile Marker (MM) 230 to MM 234. The LMR will be open to one-way traffic from 7 a.m. CST, August 28, 2011 and continue through 7 a.m. CST, November 25, 2011. This operation will continue 24 hours a day.

(ii) Vessels must request permission to transit through the area from Vessel Traffic Service Lower Mississippi River in New Orleans on VHF channel 12 or 67. The temporary check-in points are no lower than MM 239 for southbound vessels and no higher than MM 228 for northbound vessels.

(d)Informational Broadcasts. The Captain of the Port, New Orleans or a designated representative will inform the public through broadcast notices to mariners (BNM) and/or marine safety information bulletins (MSIB) of the effective period for the safety zone, requirements, and of any changes in the effective period, requirements or size of the safety zone.

Dated: August 27, 2011.
P. W. Gautier,
Captain, U.S. Coast Guard, Captain of the Port, New Orleans.

[FR Doc. 2011-25182 Filed 9-29-11; 8:45 am]

BILLING CODE 9110-04-P